DEPARTMENT OF TRANSPORTATION

Research and Special Programs Administration

Office of Hazardous Materials Safety; Notice of Delays in Processing of Exemption Applications

AGENCY: Research and Special Programs Administration, DOT.

ACTION: List of application delayed more than 180 days.

SUMMARY: In accordance with the requirements of 49 U.S.C. 5177(c), RSPA is publishing the following list of exemption applications that have been in process for 180 days or more. The reason(s) for delay and the expected completion date for action on each application is provided in association with each associated application.

FOR FURTHER INFORMATION CONTACT: Delmer Billings, Office of Hazardous Materials Exemptions and Approvals, Research and Special Programs Administration, U.S. Department of Transportation, 400 Seventh Street, SW., Washington, DC 20590-0001, (202) 366-4535.

Key to “Reason for Delay”

1. Awaiting additional information from applicant

2. Extensive public comment under review

3. Application is technically complex and is of significant impact or precedent-setting and requires extensive analysis

4. Staff review delayed by other priority issues or volume of exemption applications

Meaning of Application Number Suffixes

N—New application

M—Modification request

PM—Party to application with modification request.

Issued in Washington, DC, on January 4, 2005.
R. Ryan Posten,
Exemptions Program Officer, Office of Hazardous Materials Safety, Exemptions & Approvals.

Application No. | Applicant | Reason for delay | Estimated date of completion
New Exemption Applications
12381-N | Ideal Chemical & Supply Co. Memphis, TN | 2 | 01-31-2005
12412-N | Great Western Chemical Company Portland, OR | 3 | 01-31-2005
12950-N | Walnut Industries, Inc. Bensalem, PA | 4 | 01-31-2005
12797-N | Environmental Quality Co. Belleville, MI | 4 | 01-31-2005
13054-N | CHS Transportation Mason City, IA | 4 | 02-28-2005
13176-N | Union Pacific Railroad Company Omaha, NE | 4 | 01-31-2005
12949-N | Railway Progress Institute, Inc. Alexandria, VA | 4 | 01-31-2005
13281-N | The Dow Chemical Company Midland, MI | 4 | 01-31-2005
13265-N | Aeropres Corporation Shreveport, LA | 4 | 02-28-2005
13461-N | FIBA Technologies, Inc. Westboro, MA | 4 | 01-31-2005
13346-N | Stand-By-Systems, Inc. Dallas, TX | 1 | 02-28-2005
13347-N | ShipMate, Inc. Torrance, CA | 4 | 02-28-2005
13341-N | National Propane Gas Association Washington, DC | 1 | 02-28-2005
13302-N | FIBA Technologies, Inc. Westboro, MA | 4 | 02-28-2005
13314-N | Sunoco Inc. Philadelphia, PA | 4 | 01-31-2005
13309-N | OPW Engineered System Lebanon, OH | 4 | 01-31-2005
13295-N | Taylor-Wharton Harrisburg, PA | 1 | 02-28-2005
13266-N | Luxfer Gas Cylinders Riverside, CA | 1 | 02-28-2005
13636-N | Timberline Environmental Services Cold Springs, CA | 4 | 02-28-2005
13585-N | Texaco Ovonic Hydrogen Systems, L.L.C. Rochester Hills, MI | 4 | 01-31-2005
13582-N | Linde Gas LLC (Linde) Independence, OH | 4 | 01-31-2005
13563-N | Applied Companies Valencia, CA | 4 | 01-31-2005
13560-N | Texaco Ovonic Hydrogen Systems L.L.C. (TOHS) Rochester Hills, MI | 4 | 01-31-2005
13554-N | The Fertilizer Institute Washington, DC | 4 | 01-31-2005
13547-N | CP Industries McKeesport, PA | 4 | 01-31-2005
13484-N | Air Liquide America L.P. Houston, TX | 4 | 01-31-2005
13482-N | U.S. Vanadium Corporation (Subsidiary of Strategic Minerals Corporation) Niagara Falls, NY | 4 | 01-31-2005
13599-N | Air Products and Chemicals, Inc. Allentown, PA | 4 | 02-28-2005
13597-N | Piexon USA Inc. North Canton, OH | 4 | 02-28-2005
13228-N | AirSep Creekside Corp. Buffalo, NY | 4 | 01-31-2005
13422-N | Puritan Bennett Plainfield, IN | 3 | 02-28-2005
13188-N | General Dynamics Lincoln, NE | 1 | 02-28-2005
13183-N | Becton Dickinson Sandy, UT | 4 | 02-28-2005
13077-N | MacIntyre Middlebury, VT | 4 | 01-31-2005
Modification to Exemptions
11769-M | Great Western Chemical Company Portland, OR | 2 | 01-31-2005
11769-M | Great Western Chemical Company Portland, OR | 2 | 01-31-2005
7277-M | Structural Composites Industries Pomona, CA | 3 | 02-28-2005
13027-M | Hernco Fabrication & Services Midland, TX | 4 | 01-31-2005
11579-M | Dyno Nobel, Inc. Salt Lake City, UT | 4 | 01-31-2005
11537-M | American Development Corporation Vanceboro, NC | 2 | 01-31-2005
11241-M | Rohm and Haas Co. Philadelphia, PA | 1 | 01-31-2005
11537-M | Hawkins, Inc. Minneapolis, MN | 2 | 01-31-2005
7280-M | Department of Defense Ft. Eustis, VA | 4 | 01-31-2005
10915-M | Luxfer Gas Cylinders (Composite Cylinder Division) Riverside, CA | 1 | 01-31-2005
10878-M | Tankcon FRP Inc. Boisbriand, Qc | 1, 3 | 01-31-2005
9421-M | Taylor-Wharton (Gas & Fluid Control Group) Harrisburg, PA | 4 | 01-31-2005
12022-M | Taylor-Wharton (Gas & Fluid Control Group) Harrisburg, PA | 4 | 01-31-2005
11537-M | Interstate Chemical Company, Inc. Hermitage, PA | 2 | 01-31-2005
10882-M | Espar Products, Inc. Mississauga, Ontario, Canada | 4 | 01-31-2005
8162-M | Structural Composites Industries Pomona, CA | 3 | 02-28-2005
8718-M | Structural Composites Industries Pomona, CA | 3 | 02-28-2005
10019-M | Structural Composites Industries Pomona, CA | 3 | 02-28-2005
12065-M | Petrolab Company Latham, NY | 4 | 01-31-2005
11537-M | JCI Jones Chemicals, Inc. Milford, VA | 2 | 01-31-2005
11769-M | Hydrite Chemical Company Brookfield, WI | 2 | 01-31-2005

[FR Doc. 05-473 Filed 1-10-05; 8:45 am]

BILLING CODE 4910-60-M